DEPARTMENT OF COMMERCE

National Oceanic and Atmospheric Administration

50 CFR Part 660

[Docket No. 011231309-2090-03; I.D. 082702E]

Fisheries off West Coast States and in the Western Pacific; Pacific Coast Groundfish Fishery; Closure of Minor Nearshore Rockfish South of 40°10′ N. lat.

AGENCY: National Marine Fisheries Service (NMFS), National Oceanic and Atmospheric Administration (NOAA), Commerce.

ACTION: Fishing restrictions; request for comments.

SUMMARY: NMFS announces the closure of the nearshore rockfish south of 40°10' N. lat. at 0001 local time (l.t.) September 1, 2002, for both the open access and limited entry fixed gear groundfish fisheries. This closure is necessary because the commercial harvest guideline is projected to be reached. This action is intended to prevent overfishing of minor nearshore rockfish in 2002.

DATES: Effective from 0001 l.t. September 1, 2002, until the effective date of the 2003 specification and management measures for the Pacific Coast groundfish fishery which will be published in the Federal Register, unless modified, superseded or rescinded. Comments will be accepted through September 19, 2002.

ADDRESSES: Submit comments to D. Robert Lohn, Administrator, Northwest Region (Regional Administrator), NMFS, 7600 Sand Point Way NE., Seattle, WA 98115-0070; or Rod Mcinnis, Acting Regional Administrator, Southwest Region, NMFS, 501 West Ocean Blvd., Suite 4200, Long Beach, CA 90802-4213.

FOR FURTHER INFORMATION CONTACT: Becky Renko at 206-526-6110.

SUPPLEMENTARY INFORMATION: This action is authorized by regulations implementing the Pacific Coast Groundfish Fishery Management Plan (FMP), which governs the groundfish fishery off Washington, Oregon, and California. This action is a routine management measure under the FMP, and would normally be implemented after recommendation by the Pacific Fishery Management Council (Council) at a Council meeting. However, in this case, the next Council meeting will be too late to implement this action in time to prevent harvest of the September-October trip limits, and too late to obtain the conservation benefits of this action. Therefore, NMFS is taking this action before the Council meeting, relying upon information provided by the Council’s Groundfish Management Team. NMFS will consult with the Council at its meeting in Portland, OR, September 9-13, 2002, and could further adjust the limits inseason, if necessary.

On March 7, 2002, the levels of allowable biological catch (ABC), and the optimum yield (OY) for the minor rockfish species south of 40°10′ N. lat. were announced in theFederal Register (67 FR 10490). Minor rockfish south includes the “remaining rockfish” and “other rockfish” categories in the Monterey and Conception areas combined. “Remaining rockfish” generally includes species that have been assessed by less rigorous methods than stock assessments, and “other rockfish” which includes species that do not have quantifiable assessments. The minor rockfish south ABC (3,506 mt) is the sum of the individual “remaining rockfish” ABCs (854 mt) plus the “other rockfish” ABCs (2,652 mt). Due to limited stock assessment information, the ABC was reduced to obtain a more precautionary total catch OY of 2,015 mt. The remaining rockfish ABC was reduced by 25 percent, with the exception of black rockfish and other rockfish, which were reduced by 50 percent.

Changes to the rockfish management structure in 2000 resulted in the minor rockfish being divided into 3 species groups (nearshore, shelf, slope) (January 4, 2000; 65 FR 221). For the area south of 40°10′ N. lat., the 2002 minor rockfish OY was divided with 662 mt going to nearshore rockfish, 714 mt going to shelf rockfish and 639 mt going to slope rockfish. The resulting commercial harvest guideline for nearshore rockfish, the total catch OY minus the estimated recreational catch of 532 mt, is 130 mt. The commercial landed catch OY, minus 5 percent for discard mortality, is 124 mt.

July inseason changes to the limited fixed gear and open access trip limits south of 40°10′ N. lat., closed many fisheries outside of the 20 fathom depth-contour (67 FR 44778, July 5, 2002). Effective July 1, 2002, minor nearshore rockfish was one of the species groups adjusted to remain closed outside of 20 fathoms through October. For the November-December cumulative limit period, minor nearshore rockfish was scheduled to close in all waters. The best available information on August 23, 2002, indicates that open access and limited entry commercial fisheries together have landed 139 mt through August 17, 2002, and that the 24 mt commercial landed catch harvest guideline is likely to be exceeded by August 31, 2002. Therefore, to reduce the likelihood of the fishery (commercial plus recreational) exceeding the minor nearshore rockfish OY and possibly the ABC for the area south of 40°10′ N. lat., it is necessary to close the fishery for the remainder of 2002, beginning in September. This Federal Register notice announces that minor nearshore rockfish fishery south of 40°10′ N. lat. will be closed for the limited entry fixed gear and open access fisheries as of September 1, 2002. The limited entry trawl fishery for minor nearshore rockfish fishery south of 40°10′ N. lat. has been closed since July 1, 2002.

NMFS Action

For the reasons stated above, NMFS herein announces:1. in section IV., under B. Trip Limits in the Limited Entry Fixed Gear Fishery, Table 4 is revised to read as follows:

BILLING CODE 3510-22-S

2. in section IV., under C. Trip Limits in the Open Access Fishery, Table 5 is revised to read as follows:

BILLING CODE 3510-22-C

Classification

This action is authorized by the Pacific Coast Groundfish FMP and its implementing regulations, and is based on the most recent data available. The aggregate data upon which this action is based is available for public inspection at the Office of the Administrator, Northwest Region, NMFS, (see ADDRESSES) during business hours.

The Assistant Administrator for Fisheries, NMFS, finds good cause to waive the requirement to provide prior notice and opportunity for public comment on this action pursuant to 5 U.S.C. 553(b)(B), because providing prior notice and opportunity for comment would be impracticable. It would be impracticable because the next 2-month cumulative trip limit period for the Pacific Coast groundfish fishery begins September 1, 2002, and affording prior notice and opportunity for public comment would impede the agency’s function of managing fisheries to remain within the OY. The closure for minor nearshore rockfish in this document is a reduction from the status quo and must be implemented immediately to prevent the harvest of minor nearshore rockfish from exceeding its OY for 2002. Delaying implementation of this closure past September 1, 2002, would allow fishers to harvest the higher trip limits that were previously scheduled for the September-October 2-month cumulative period and may cause the catch of minor nearshore rockfish to exceed its OY. For these reasons, good cause also exists to waive the 30-day delay in effectiveness requirement of 5 U.S.C. 553 (d)(3). This action is taken under the authority of 50 CFR 660.323(b)(1) and is exempt from review under Executive Order 12866.

Authority: 16 U.S.C. 1801 et seq.

Dated: August 29, 2002.
Virginia M. Fay,
Acting Director, Office of Sustainable Fisheries, National Marine Fisheries Service.

[FR Doc. 02-22523 Filed 8-29-02; 4:09 pm]

BILLING CODE 3510-22-S